TENNESSEE VALLEY AUTHORITY

Final Supplemental Environmental Impact Statement, Sequoyah Nuclear Plant Units 1 and 2 License Renewal, Hamilton County, Tennessee

AGENCY: Tennessee Valley Authority (TVA).

ACTION: Issuance of Record of Decision.

SUMMARY: This notice is provided in accordance with the Council on Environmental Quality's regulations (40 CFR Parts 1500 to 1508) and TVA's procedures for implementing the National Environmental Policy Act (NEPA). TVA prepared the Final Supplemental Environmental Impact Statement, Sequoyah Nuclear Plant Units 1 and 2 License Renewal (hereafter referred to as Sequoyah License Renewal Final SEIS) to update existing environmental information and analyses for the continued operation of the Sequoyah Nuclear Plant (SQN) in Soddy-Daisy, Tennessee. A notice of availability (NOA) of the Sequoyah License Renewal Final SEIS was published in the Federal Register on July 1, 2011. On August 18, 2011, the TVA Board of Directors (TVA Board) decided to proceed with an application to the U.S. Nuclear Regulatory Commission (NRC) to extend the operation of SQN Units 1 and 2, implementing the preferred alternative (Alternative 1—SQN Units 1 and 2 License Renewal—Action Alternative) identified in the Final SEIS.

FOR FURTHER INFORMATION CONTACT: Amy B. Henry, NEPA Specialist, Environmental Permits and Compliance, Tennessee Valley Authority, 400 West Summit Hill Drive, WT 11D, Knoxville, Tennessee 37902-1499; telephone (865) 632-4045 or e-mail abhenry@tva.gov.

Gary M. Adkins, Sequoyah License Renewal Project Manager, Nuclear Generation Development and Construction, Tennessee Valley Authority, 1101 Market Street, LP 5A, Chattanooga, Tennessee 37402; telephone (423) 751-4363 or e-mail gmadkins@tva.gov.

SUPPLEMENTARY INFORMATION: TVA's Integrated Resource Plan (IRP), issued in 2011, forecasts increasing peak load and net system electrical power requirements through 2029. TVA has an obligation to meet this need while maintaining low-cost, reliable power for consumers in its power service area. In the IRP, TVA assumed for analytical purposes that its existing nuclear plants, including SQN, would continue to operate throughout the IRP planning period. Furthermore, the IRP establishes targets for idling coal-fired generation capacity and increasing the proportion of energy TVA generates using nuclear and renewable sources. The Sequoyah License Renewal Final EIS incorporated information and analyses from the IRP process. Continued operation of SQN Units 1 and 2 will help meet the identified need for power, maximize use of existing assets, and support TVA's efforts to reduce the carbon emissions from its generating system.

SQN is located along the Chickamauga Reservoir, approximately 18 miles northeast of Chattanooga, in Hamilton County, Tennessee. SQN Units 1 and 2 are pressurized light water reactors, each with a capacity of approximately 1,200 megawatts of electricity. SQN Units 1 and 2 received commercial operating licenses in 1980 and June 1981, respectively. The current operating licenses for SQN Units 1 and 2 expire in 2020 and 2021 respectively. The Sequoyah License Renewal Final SEIS supplements and updates the original TVA Final Environmental Statement, Sequoyah Nuclear Plant Units 1 and 2, issued in February 1974.

TVA has decided to submit an application to the U.S. Nuclear Regulatory Commission (NRC) to renew the operating licenses for SQN Units 1 and 2. The NRC can grant renewals to extend nuclear plant operating licenses for an additional 20 years. To date, the NRC has granted license renewals for over 70 of the nation's 104 operating reactors in the United States, including the three units at TVA's Browns Ferry Nuclear Plant.

The license renewal process requires both a technical review of safety issues and an environmental review. The technical review must demonstrate that the structures, systems, and components will be adequately managed to ensure safety during the plant's extended operation and subsequent decommissioning. In addition to TVA's SEIS, the NRC will perform its own environmental review to examine the impacts of issuing renewed licenses for SQN Units 1 and 2. The Sequoyah License Renewal Final SEIS incorporated information from the NRC's Generic Environmental Impact Statement for License Renewal of Nuclear Plants (1996).

Renewal of the current operating licenses would allow SQN to continue supplying safe, clean, reliable, and cost-effective base load power between 2020 and 2041. The license renewal program would not require major new construction, alterations, or refurbishment to SQN, nor would it require changes to operational limits or permit requirements to comply with current regulations. Other than the continued normal operations, refueling, and maintenance for an additional 20 years, no significant changes would be needed to continue current operation of SQN Units 1 and 2. Upon expiration of operating licenses, SQN would be decommissioned in accordance with NRC regulations.

TVA stores some spent fuel from SQN in an onsite ISFSI that is licensed by the NRC. Spent fuel will be stored in the ISFSI until the U.S. Department of Energy (DOE) takes possession of the spent fuel and removes it from the site for permanent disposal or processing. If the DOE does not take possession of the spent fuel before 2026, expansion of the onsite ISFSI may be required to support SQN operations during the period of license renewal.

Public Involvement

TVA published a notice of intent to prepare an SEIS in the Federal Register on April 12, 2010. Comments received from agencies, the public, and tribes were considered during development of the Draft SEIS. The U.S. Environmental Protection Agency (USEPA) published the NOA for the Draft SEIS in the Federal Register on November 5, 2010. TVA accepted comments on the draft SEIS until December 22, 2010 and held a public open house in Soddy-Daisy, Tennessee, on December 2, 2010. Comments about SEIS content, the proposed action, and expressing support or concerns about nuclear power generation were received from nine agencies and individuals. After considering and responding to all substantive comments, TVA completed and issued the Final SEIS. The NOA of the Final SEIS was published in the Federal Register on July 1, 2011.

Alternatives Considered

In addition to renewing the SQN operating licenses for an additional 20 years to meet future power demand (Alternative 1), TVA reviewed options that would require new generating capacity and those that would not, as well as combinations of options. TVA considered the full range of supply-side and demand-side actions identified in TVA's IRP. In the Sequoyah License Renewal SEIS, TVA evaluated the impacts of the Action Alternative and the No Action Alternative. Relative to SQN, the Action Alternative (Alternative 1) is to pursue renewal of the operating licenses, with the goal of continuing SQN operation for an additional 20 years. Under the No Action Alternative (Alternative 2), TVA would not pursue license renewal and would shut down SQN Units 1 and 2 by 2020 and 2021, respectively. Subsequently, TVA would need to rely on alternate means to meet future power demands. A model designed to forecast an optimized capacity plan that minimizes the cost of power indicated that, initially, TVA would adjust the operation of existing generating units to meet demand. However, subsequent increasing demands for capacity and energy would require construction of new generating units. The model indicated two likely options, which were evaluated as part of the No Action Alternative:

• Alternative 2a—SQN Shutdown and New Nuclear Generation

• Alternative 2b—SQN Shutdown and New Natural Gas-Fired Generation

Alternative 1 was TVA's preferred alternative and was selected for implementation by the TVA Board on August 18, 2011.

Environmental Consequences

Analyses conducted for the SEIS indicate that no significant impacts would be expected as a result of implementing Alternative 1. SQN is an existing facility operating under NRC licenses and has minimal impacts on the environment. During the license renewal period, SQN would continue normal operations, refueling, and maintenance in accordance with appropriate operational limits and permit requirements, which would also result in minimal environmental impacts. There would be no change to the current level of minor impacts to surface water supply and quality, groundwater, aquatic biota, and air quality. There would be no new direct or indirect impacts to terrestrial habitat, wildlife, land use, floodplains, or aesthetics. The effects of SQN on local socioeconomics and public services would not change. All radioactive effluents would be released in accordance with applicable regulatory limits, and would continue to have no measureable impact to human health or the environment. An additional 20 years of operation would avoid the release of millions of tons of greenhouse gases that would be produced by alternative generation strategies that include increased fossil-fuel generation. While greater total quantities of solid, hazardous, and low-level radiological waste would be generated and disposed of in permitted landfills and storage facilities, no substantive impacts would occur. Continued operation of SQN would result in greater amounts of spent fuel and potential expansion of the site's ISFSI, both of which would result in minor environmental impacts.

Decommissioning SQN would be necessary whether the operating licenses are renewed or not. TVA would select a decommissioning method from approved options at the appropriate time. Decommissioning decisions and actions would be taken sooner under the No Action Alternative. Neither the Action Alternative nor the No Action Alternative would foreclose on decommissioning options, or result in environmentally unacceptable conditions.

Following the events at the Fukushima (Japan) Daiichi Nuclear Power Plant on March 11, 2011, TVA initiated an effort to examine those events with regard to insights they may provide relative to emergency response capabilities at TVA's nuclear power plants. That effort continues as detailed information becomes known, but it has already determined that a sequence of events like the Fukushima accident is unlikely to occur at any TVA plant. Nonetheless, the effort has resulted in some proposed enhancements to emergency response procedures and equipment, which are being further evaluated. As a result of that on-going effort, TVA expects to implement strategies to further improve the safety of all its operating nuclear power plants, including SQN. Additionally, TVA will comply with any new regulatory requirements, orders, and policies issued by the NRC, as applicable. Based upon data presented in the Final SEIS and subsequent analyses, TVA concludes that the environmental risk of a design-basis accident or severe accident is minor, and that the results of such accidents continue to be accurately reflected in the Sequoyah License Renewal Final SEIS.

In addition, the NRC's (90-day) report, Recommendations for Enhancing Reactor Safety in the 21st Century: The Near-Term Task Force Review of Insights from the Fukushima Dai-ichi Accident, concluded that continued operation and continued licensing activities associated with United States nuclear power plants do not pose an imminent risk to public health and safety.

Comments on the Final SEIS

The Greater Nashville Regional Council indicated the proposal to renew SQN operating licenses is not duplicative or in conflict with other projects the Council has considered. The Tennessee Department of Environment and Conservation (TDEC), Division of Water Supply, provided a point of contact and requested notification should any work be performed in the source water protection areas, or in the event of a release to the river. While the Final SEIS does not propose activities expected to affect source water protection areas, TVA routinely coordinates with TDEC concerning activities at SQN and would continue to do so should the NRC grant renewed operating licenses.

Comments received from the USEPA address the NRC's 90-day report on the Fukushima Daiichi accident. The USEPA commented that continued operation and licensing activities for SQN Units 1 and 2 should not pose an imminent risk to public health and safety. The USEPA also concurred with the NRC's conclusion that improving the NRC's regulatory framework is an appropriate, realistic, and achievable goal. TVA agrees that these comments are consistent with conclusions of the NRC 90-day report and TVA's examination of SQN current operations and proposed operation under renewed licenses. The USEPA also noted that, should the NRC decide to recommend moving spent fuel from pool to dry cask storage sooner, TVA may need to expand the SQN ISFSI sooner than described in the FSEIS. TVA is examining the benefits and feasibility of more rapid transfer of spent fuel to dry cask storage. If expansion of the existing SQN ISFSI is needed sooner, the environmental impacts would not differ from those described in the FSEIS. Finally, USEPA recommended that TVA consider applying proposals of the NRC 90-day report to SQN Units 1 and 2. TVA will consider applying proposals of the NRC 90-day report to SQN Units 1 and 2. TVA will continue to evaluate future NRC recommendations and to meet all applicable regulatory requirements that result from response to the Fukushima events.

Decision

On August 18, 2011, the TVA Board decided to proceed with an application to extend the operating licenses for Sequoyah Units 1 and 2 for an additional 20 years and other such actions as necessary to accomplish NRC approval of the license renewal application. Continuing to operate SQN would provide the Tennessee Valley with an additional 20 years of safe, reliable, base load power while promoting TVA's efforts to reduce carbon emissions, make beneficial use of an existing asset, and deliver power at the lowest feasible cost.

Environmentally Preferred Alternative

The environmentally preferred alternative is Alternative 1—SQN Units 1 and 2 License Renewal—Action Alternative. The environmental impacts of continued operation are minor. As an existing plant, continued operation of SQN would not result in additional environmental impacts while contributing to meeting the future demands on the TVA system to supply reliable energy with low carbon emissions.

Dated: August 31, 2011.
Preston D. Swafford,
Chief Nuclear Officer and Executive Vice President, Nuclear Generation.

[FR Doc. 2011-22800 Filed 9-7-11; 8:45 am]

BILLING CODE 8120-08-P